DEPARTMENT OF THE INTERIOR

Bureau of Indian Affairs

Rate Adjustments for Indian Irrigation Projects

AGENCY: Bureau of Indian Affairs, Interior.

ACTION: Notice of Rate Adjustments.

SUMMARY: The Bureau of Indian Affairs (BIA) owns, or has an interest in, irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: Effective Date: The irrigation assessment rates shown in the tables as final are effective as of January 3, 2011.

FOR FURTHER INFORMATION CONTACT: For details about a particular BIA irrigation project or facility, please use the tables in the SUPPLEMENTARY INFORMATION section to contact the regional or local office where the project or facility is located.

SUPPLEMENTARY INFORMATION: A Notice of Proposed Rate Adjustment was published in the Federal Register on November 1, 2010 (75 FR 67095) to propose adjustments to the irrigation assessment rates at several BIA irrigation projects. The public and interested parties were provided an opportunity to submit written comments during the 60-day period that ended January 3, 2011.

Did the BIA defer or change any proposed rate increases?

Yes. The 2011 Operation and Maintenance (O&M) rate for the Riverton Valley Irrigation District of the Wind River Irrigation Project was proposed in the Federal Register at $17.00 per acre. After further review, BIA discovered that the 2011 O&M rate for Riverton Valley Irrigation District should have been at $16.00 per acre pursuant to the Memorandum of Agreement between the BIA and the Riverton Valley Irrigation District. Hence, this notice of rate adjustments reflects a 2011 O&M rate of $16.00 per acre for the Riverton Valley Irrigation District.

Did the BIA receive any comments on the proposed irrigation assessment rate adjustments?

Written comments were received related to the proposed rate adjustments for the San Carlos Irrigation Project and the Wapato Irrigation Project.

What issues were of concern to the commenters?

Commenters raised concerns specific to the San Carlos Irrigation Project on the proposed rates about the following issues: (1) The methodology used for O&M rate setting; and (2) the appropriateness of specific O&M budget items relating to undelivered orders, environmental compliance, staffing levels and salary charges for the Irrigation System Operators, the reserve fund, and deferred maintenance at Coolidge Dam.

Commenters raised concerns specific to the Wapato Irrigation Project on the proposed rates about the following issues: (1) The Yakama Nation's concern that “it is impossible to comment on the substance of the proposed increases without being provided the basic cost and acreage information that go into the determination of the rate”; and (2) the Nation's objection that the underlying O&M charges are inconsistent with the Nation's litigation position in the pending appeals.

The following comments are specific to the San Carlos Irrigation Project

Written comments relating to the proposed rate adjustment for the San Carlos Irrigation Project-Joint Works (Project) were received by letter dated December 28, 2010, from the San Carlos Irrigation and Drainage District (District).

The District raised several issues in its letter. The BIA's summary of the District's issues and the BIA's responses are provided below.

Comment: The BIA's methodology for setting the 2012 O&M assessment rate was unreasonable.

Response: The methodology used by the BIA to determine the 2012 O&M assessment rate was reasonable. Based on a review of historical income and expenditures, a budget of projected income and expenditures is developed approximately two years before the O&M assessments are collected and expenses are incurred. The BIA relies on financial reports generated by the Federal Finance System for reviewing past expenditures and projecting a future budget and expenditures. Procurement files and records maintained by the Project are also reviewed and considered. For example, with regard to development of the 2012 Project budget, the BIA reviewed: (1) The year-end reconciled income and expenditure information for 2009; (2) available income and expenditure information for 2010; (3) previous budget projections for 2011; and (4) other information relevant to potential future Project expenses, such as cost information for replacement of the Coolidge Dam cylinder gates.

The BIA provided the District with draft budget and supporting information, held budget fact-finding meetings between November 2009 and April 2010, and received feedback from the District. In addition, in accordance with BIA policy, the BIA held meetings with Project water users (including the District) to discuss O&M rates and maintenance needs.

Comment: A large sum of obligated funds are carried over from year-to-year as undelivered orders (UDOs). As a result, funds are collected twice to satisfy the same UDOs. Obligated funds should be de-obligated at the end of each fiscal year and made available to meet expenses in the following year.

Response: The BIA's management of UDOs complies with Federal procurement requirements and is otherwise reasonable. The BIA met with the District several times to explain the UDOs carried by the Project's budget and how the UDOs are tracked and accounted for in the Federal Financial System. Specifically, the BIA explained this issue during year-end budget reconciliation presentations made to Project stakeholders for Fiscal Years 2008, 2009, and 2010. The Project's UDOs relate mostly to contract work in progress for annual maintenance of Project wells and annual environmental compliance activities. These contracts are awarded and administered in accordance with Federal procurement processes. Future contracts for these activities will also be solicited and awarded by the BIA in compliance with Federal procurement requirements. When funds obligated to a contract are not fully expended during the period of the contract, the BIA de-obligates the unexpended funds and the funds become available to satisfy other Project financial obligations. The BIA disagrees with the District's assertion that this is an “unreasonable fiscal management practice.” The BIA manages the funds within the approved Federal Financial System and Federal procurement processes. The BIA's management of the funds is transparent to Project water users, and the amount, purpose, and status of the funds are reported to Project water users on a regular basis.

Comment: The BIA should not use two ISOs to change gates and stoplogs. One ISO can perform these tasks and the additional ISO is an unnecessary expense.

Response: The BIA currently uses two Project ISOs to perform certain O&M tasks, rather than one, as an interim measure in response to the accidental deaths of two Project ISOs, one in 2006 and the other in 2010, when they fell into the Project's Pima Lateral and drowned. During the summer of 2010, the BIA Safety Office visited the Project to conduct a Safety and Occupational Health Program Evaluation and develop a safety plan for the Project. The plan should be completed in 2011. Until the plan is completed and specific recommendations are issued, the BIA will continue to use two ISOs for certain O&M activities. The BIA will re-evaluate this practice and implement appropriate measures once the plan is complete.

Comment: The salaries of Project ISOs are high considering their work assignments. The Joint Control Board assumed many of the duties previously held by Project ISOs. The pay for these positions should be reduced.

Response: The current Project ISOs are paid at current levels because they are on temporary detail from higher-paid positions. The BIA detailed two Power Division employees to the Irrigation Division to address the Project ISO issue noted in the previous response. These employees are heavy equipment operators and are paid at the prevailing wage scale for those positions while on detail to the Irrigation Division. The BIA detailed these employees to the Irrigation Division on a temporary basis, rather than immediately hiring new ISOs, because Project staff are in the midst of working with the BIA's Human Resources Office to reorganize the Irrigation Division and establish ISO positions at the GS 04/05 level. The BIA initiated this reorganization at the request of the District and other Project water users. Once the reorganization is approved and the positions recruited and filled, the Project's Irrigation Division staff budget will change accordingly. The BIA anticipated this change in the proposed FY 2013 O&M budget shared with Project water users.

This reorganization initiative follows changes already made by the Project's Irrigation Division during calendar year 2009 in response to the Joint Control Board's assumption of maintenance duties on the Joint Works facilities. The Irrigation Division's organization chart no longer includes heavy equipment operators because the maintenance functions of these positions were assumed by the Joint Control Board. The BIA will adjust staffing levels further once the Project's water delivery facilities are fully automated. When this occurs, the BIA will re-evaluate the duties of the ISOs and adjust ISO wage levels so that salaries are commensurate with the skills, knowledge, and abilities required for delivering water using automated facilities.

Comment: The Project's contract for environmental and archaeological services should be terminated and these services should be procured competitively in the future. Entities applying for encroachment permits should be charged fees that will cover cost of necessary environmental and archaeological evaluations and permit processing.

Response: The BIA did not extend the environmental and archaeological services contract non-competitively. The BIA extended the performance deadline for the contract, but the scope of work has remained the same. The BIA is taking several steps to reduce costs associated with performing environmental compliance activities.

In some instances, the BIA develops its own environmental compliance work product in furtherance of O&M responsibilities (e.g., the San Carlos Reservoir litigation initiated by the San Carlos Apache Tribe). The BIA also uses environmental documents produced by other agencies where possible. To further reduce costs, the BIA is discussing with Project water users other options for conducting environmental compliance activities. The options include hiring an environmental specialist for the Project, charging fees to proponents of activities that require Federal environmental compliance, continuing to solicit contracts for this service, or some combination of these options.

Environmental compliance activities associated with the Project's O&M responsibilities are funded through O&M assessments and collections from the District and from Federal appropriations on behalf of the Indian Works. The BIA is legally obligated to perform these compliance activities and they benefit Project users by ensuring that the environmental effects of Project activities are understood. The BIA is evaluating whether a fee schedule is appropriate for funding environmental compliance required for certain activities. Until this evaluation is complete, the BIA will continue to fund Federal environmental compliance activities from the Project O&M revenues as authorized by Congress.

Comment: The emergency reserve fund should be reduced.

Response: The Project's emergency reserve fund is within the range specified in the Emergency Reserve Fund Determination Guidelines in the August 2008 BIA National Irrigation Handbook. The BIA reduced the reserve fund from $800,000 to $400,000 following the transfer of certain maintenance responsibilities to the Joint Control Board. The BIA continues to be responsible for the maintenance and management of Project wells and Coolidge Dam. Replacement of a single well is estimated to cost between $250,000 and $300,000. The BIA believes that the reserve fund should be maintained as proposed and consistent with the guidelines so that it can cover the cost of replacing a single well and other miscellaneous contingencies.

Comment: The amount budgeted for replacement of the broken Coolidge Dam cylinder gates should be reduced. A single bulkhead gate would be sufficient and less expensive and should be used. The current cost estimate for the replacement of the gates exceeds the initial cost estimate and the BIA has not explained the reason for the increased cost.

Response: Replacing the cylinder gates at Coolidge Dam with a single bulkhead gate is not appropriate. Also, the initial cost estimate referenced by the District is out-of-date and was a preliminary estimate. Recent cost estimates developed by the Bureau of Reclamation to replace both cylinder gates with automated bulkhead gates are more accurate. Replacing the inoperable gates with automated gates provides the greatest security to Project water users. The BIA provided information on this matter to Project water users. Additionally, in response to concerns expressed by the District at the last two water user meetings, the BIA proposed to schedule technical work group meetings this summer with the interested water users to re-review all available technical and cost information relating to the cylinder gates, and to refine the planning schedule for replacement of the cylinder gates.

Using a single bulkhead gate to close both cylinder gates is inadvisable for several reasons: (1) The bulkhead gate may not fit in both gate towers because the towers likely do not have the same dimensions; (2) a crane capable of lifting the bulkhead gate may not be available locally—in an emergency situation significant damage could occur to Coolidge Dam while waiting for a suitable crane to be procured; (3) the single bulkhead gate could close only one conduit at a time; and (4) the road crossing the crest of the dam would need to be closed when the bulkhead gate is removed or installed.

Comment: The employment of additional ISOs and replacement of Coolidge Dam cylinder gates are deviations from the “approved budget.” These deviations should not be made without documentation and consultation with the District.

Response: The budget shared by the BIA during the Fact Finding process is not binding on the BIA. The BIA must update its O&M budget regularly to reflect actual expenditures and unplanned contingencies. The O&M budget presented during the Fact Finding process is the BIA's best estimate of what it will cost to operate the Project. The budget cannot be expected to remain unchanged because it is prepared two years in advance of the fiscal year in which the Project performs the actual O&M work. The BIA provides the District with an update on the Project's budget at nearly every monthly District Board meeting, at regularly scheduled water user meetings, and upon specific request from the District.

The BIA provided the District adequate information regarding the O&M activities to which the District objects. The BIA provided the District and other stakeholders with detailed technical information and cost estimates for the cylinder gate replacement operation in 2006, and the BIA has continued to discuss this matter with stakeholders. More recently, in February 2011, the BIA hosted a site visit at Coolidge Dam at the request of water users to discuss the cylinder gate issue. The BIA's Regional Safety of Dams Officer answered questions posed by the water users during this site visit. Also, the BIA has discussed the ISO interim measure and associated budget implications with water users continually since 2006. The BIA understands that the District disagrees with the interim measure undertaken by the Project to address this issue. The BIA believes it has provided the District sufficient information and documentation regarding these activities.

The Yakama Nation (Nation) raised the following comments. The BIA's response is provided immediately after each comment statement.

The following comments are specific to the Wapato Irrigation Project:

Comment: The Nation is concerned that “it is impossible to comment on the substance of the proposed increases without being provided the basic cost and acreage information that go into the determination of the rate.”

Response: Following BIA policy, the Wapato Irrigation Project conducted two water user meetings for the 2010 irrigation season. Representatives attending the meetings included the Nation and non-Indian water users. The purpose of these meetings is to provide opportunity for attendees to ask the BIA questions as well as to discuss maintenance plans for the upcoming year, among other topics. In accordance with 25 CFR Part 171.500, Operation and Maintenance, the Wapato Irrigation Project calculates the annual operation and maintenance assessment rate by estimating the annual operation, maintenance and rehabilitation costs and then dividing by the total assessable acres within the Project.

Comment: The Nation objects that the underlying O&M charges are inconsistent with the Nation's litigation position in the pending appeals.

Response: The Nation, which is served by the Wapato Irrigation Project, has an administrative appeal regarding the BIA's charging irrigation O&M on trust lands. As a general matter, the BIA's position is that we have statutory authority to establish the rates provided for under this notice. Regarding this particular issue, it raises concerns currently on appeal and does not specifically target the rate change, so it will not be discussed further in this notice.

Does this notice affect me?

This notice affects you if you own or lease land within the assessable acreage of one of our irrigation projects, or if you have a carriage agreement with one of our irrigation projects.

Where can I get information on the regulatory and legal citations in this notice?

You can contact the appropriate office(s) stated in the tables for the irrigation project that serves you, or you can use the Internet site for the Government Printing Office at www.gpo.gov.

What authorizes you to issue this notice?

Our authority to issue this notice is vested in the Secretary of the Interior by 5 U.S.C. 301 and the Act of August 14, 1914 (38 Stat. 583; 25 U.S.C. 385). The Secretary has in turn delegated this authority to the Assistant Secretary—Indian Affairs under Part 209, Chapter 8.1A, of the Department of the Interior's Departmental Manual.

Who can I contact for further information?

The following tables are the regional and project/agency contacts for our irrigation projects and facilities:

Northwest Region Contacts
Stanley Speaks, Regional Director Bureau of Indian Affairs, Northwest Regional Office, 911 NE. 11th Avenue, Portland, Oregon 97232-4169, Telephone: (503) 231-6702
Project Name | Project/Agency Contacts
Fort Hall | Dean Fox, Acting Superintendent
Irrigation Project | Fort Hall Agency
| P.O. Box 220
| Fort Hall, ID 83203-0220
| Telephone: (208) 238-1992
Wapato | Edwin Lewis, Project Administrator
Irrigation Project | Wapato Irrigation Project
| P.O. Box 220
| Wapato, WA 98951-0220
| Telephone: (509) 877-3155
Rocky Mountain Region Contacts
Ed Parisian, Regional Director, Bureau of Indian Affairs, Rocky Mountain Regional Office, 316 North 26th Street, Billings, Montana 59101, Telephone: (406) 247-7943
Project Name | Agency/Project Contacts
Blackfeet | Stephen Pollock, Superintendent
Irrigation Project | Vacant, Irrigation Project Manager
| Box 880
| Browning, MT 59417
| Telephones: (406) 338-7544, Superintendent
| (406) 338-7519, Irrigation Project Manager
Crow | Vianna Stewart, Superintendent
Irrigation Project | Karl Helvik, Acting Irrigation Project Engineer
| P.O. Box 69
| Crow Agency, MT 59022
| Telephones: (406) 638-2672, Superintendent
| (406) 638-2863, Irrigation Project Manager
Fort Belknap | Cliff Hall, Superintendent
Irrigation Project | Vacant, Irrigation Project Manager
| (Project O&M contracted by the Tribes)
| R.R.1, Box 980
| Harlem, MT 59526
| Telephones: (406) 353-2901, Superintendent
| (406) 353-2905, Irrigation Project Manager
Fort Peck | Florence White Eagle, Superintendent,
Irrigation Project | PH: (406) 768-5312
| P.O. Box 637
| Poplar, MT 59255;
| Huber Wright, Acting Irrigation Manager, PH: (406) 653-1752
| 602 6th Avenue North
| Wolf Point, MT 59201
Wind River | Ed Lone Fight, Superintendent
Irrigation Project | Ray Nation, Acting Irrigation Project Manager
| P.O. Box 158
| Fort Washakie, WY 82514
| Telephones: (307) 332-7810, Superintendent
| (307) 332-2596, Irrigation Project Manager
Southwest Region Contacts
William T. Walker, Regional Director, Bureau of Indian Affairs, Southwest Regional Office, 1001 Indian School Road, Albuquerque, New Mexico 87104, Telephone: (505) 563-3100
Project Name | Project/Agency Contacts
Pine River | John Waconda, Superintendent
Irrigation Project | Reginald Howe, Supervisory Irrigation Systems Operator
| P.O. Box 315
| Ignacio, CO 81137-0315
| Telephones: (970) 563-4511, Superintendent
| (970) 563-9484, Supervisory Irrigation Systems Operator
Western Region Contacts
Bryan Bowker, Regional Director, Bureau of Indian Affairs, Western Regional Office, 2600 N, Central Avenue, 4th Floor Mailroom Phoenix, Arizona 85004, Telephone: (602) 379-6600
Project Name | Project/Agency Contacts
Colorado River | Janice Staudte, Superintendent
Irrigation Project | Ted Henry, Irrigation Project Manager
| 12124 1st Avenue
| Parker, AZ 85344
| Telephone: (928) 669-7111
Duck Valley | Joseph McDade, Superintendent
Irrigation Project | 1555 Shoshone Circle
| Elko, NV 89801
| Telephone: (775) 738-5165
Fort Yuma | Irene Herder, Superintendent
Irrigation Project | 256 South Second Avenue, Suite D
| Yuma, AZ 85364-2258
| Telephone: (928) 782-1202
San Carlos | Ferris Begay, Acting Project Manager
Irrigation Project | Clarence Begay, Irrigation Manager
Joint Works | P.O. Box 250
| Coolidge, AZ 85228
| Telephone: (520) 723-6215
San Carlos | Cecilia Martinez, Superintendent
Irrigation Project | Joe Revak, Supervisory General Engineer
Indian Works | Pima Agency, Land Operations
| P.O. Box 8
| Sacaton, AZ 85247
| Telephone: (520) 562-3326
| Telephone: (520) 562-3372
Uintah | Daniel Picard, Superintendent
Irrigation Project | Dale Thomas, Irrigation Manager
| P.O. Box 130
| Fort Duchesne, UT 84026
| Telephone: (435) 722-4300
| Telephone: (435) 722-4341
Walker River | Athena Brown, Superintendent
Irrigation Project | 311 E. Washington Street
| Carson City, NV 89701 Telephone: (775) 887-3500

What irrigation assessments or charges are adjusted by this notice?

The rate table below contains the current rates for all irrigation projects where we recover costs of administering, operating, maintaining, and rehabilitating them. The table also contains the final rates for the 2011 season and subsequent years where applicable. An asterisk immediately following the name of the project notes where the 2011 rates are different from the 2010 rates.

Northwest Region Rate Table
Project name | Rate category | Final 2010 rate | Final 2011 rate
Fort Hall Irrigation Project * | Basic per acre | $40.50 | $42.00
| Minimum Charge per tract | $30.00 | $31.50
Fort Hall Irrigation Project—Minor Units * | Basic per acre | $21.00 | $22.50
| Minimum Charge per tract | $30.00 | $31.50
Fort Hall Irrigation Project—Michaud * | Basic per acre | $41.50 | $43.00
| Pressure per acre | $58.00 | $59.50
| Minimum Charge per tract | $30.00 | $31.50
Wapato Irrigation Project—Toppenish/Simcoe Units * | Minimum Charge for per bill | $15.00 | $17.00
| Basic per acre | $15.00 | $17.00
Wapato Irrigation Project—Ahtanum Units * | Minimum Charge per bill | $15.00 | $17.00
| Basic per acre | $15.00 | $17.00
Wapato Irrigation Project | Minimum Charge for per bill | $58.00 | $63.00
Wapato/Satus Unit * | “A” Basic per acre | $58.00 | $63.00
| “B” Basic per acre | $68.00 | $70.00
Wapato Irrigation Project—Additional Works * | Minimum Charge per bill | $63.00 | $67.00
| Basic per acre | $63.00 | $67.00
Wapato Irrigation Project Water Rental * | Minimum Charge | $70.00 | $72.00
| Basic per acre | $70.00 | $72.00
Rocky Mountain Region Rate Table
Project name | Rate category | Final 2010 rate | Final 2011 rate
Blackfeet Irrigation Project | Basic-per acre | $19.00 | $19.00
Crow Irrigation Project—Willow Creek O&M (includes Agency, Lodge Grass #1, Lodge Grass #2, Reno, Upper Little Horn, and Forty Mile Units) | Basic-per acre | $22.80 | $22.80
Crow Irrigation Project—All Others (includes Bighorn, Soap Creek, and Pryor Units) | Basic-per acre | $22.50 | $22.50
Crow Irrigation Two Leggins Drainage District | Basic-per acre | $2.00 | $2.00
Fort Belknap Irrigation Project | Basic-per acre | $14.75 | $14.75
Fort Peck Irrigation Project | Basic-per acre | $24.70 | $24.70
Wind River Irrigation Project | Basic-per acre | $20.00 | $20.00
Wind River Irrigation Project—LeClair District * (see Noten #1) | Basic-per acre | $26.00 | $21.00
Wind River Irrigation Project—CrowHeart Unit | Basic-per acre | $14.00 | $14.00
Wind River Irrigation Project—Riverton Valley Irrigation District | Basic-per acre |  | $16.00
Southwest Region Rate Table
Project name | Rate category | Final 2010 rate | Final 2011 rate
Pine River Irrigation Project | Minimum Charge per tract | $50.00 | $50.00
| Basic-per acre | $15.00 | $15.00

Western Region Rate Table
Project name | Rate category | Final 2010 rate | Final 2011 rate | Proposed 2012 rate
Colorado River Irrigation Project * | Basic per acre up to 5.75 acre-feet | $52.50 | $54.00 | To be determined.
| Excess Water per acre-foot over 5.75 acre-feet | $17.00 | $17.00
Duck Valley Irrigation Project | Basic per acre | $5.30 | $5.30
Fort Yuma Irrigation Project (See Note #2) | Basic per acre up to 5.0 acre-feet | $86.00 | $86.00
| Excess Water per acre-foot over 5.0 acre-feet | $14.00 | $14.00
| Basic per acre up to 5.0 acre-feet (Ranch 5) | $86.00 | $86.00
San Carlos Irrigation Project (Joint Works) * (See Note #3) | Basic per acre | $21.00 | $25.00 | $30.00
San Carlos Irrigation Project (Indian Works) (See Note #4) | Basic per acre | $57.00 | $68.00 | To be determined
Uintah Irrigation Project | Basic per acre | $15.00 | $15.00
| Minimum Bill | $25.00 | $25.00
Walker River Irrigation Project * | Indian per acre | $19.00 | $22.00
| non-Indian per acre | $19.00 | $22.00
* Notes irrigation projects where rates have been adjusted.
Note #1—Upon further budget review and subsequent meetings with the water users, BIA revised the O&M rate to $26.00 per acre for FY 2010 versus the $27.00 per acre that was published in the Federal Register on May 26, 2010 (Vol. 75, No. 101, page 29578).
Note #2—The O&M rate for the Fort Yuma Irrigation Project has two components. The first component is the O&M rate established by the Bureau of Reclamation (BOR), the owner and operator of the Project. The 2011 BOR rate remains unchanged at $79.00/acre. The second component is for the O&M rate established by BIA to cover administrative costs including billing and collections for the Project. The 2011 BIA rate remains unchanged at $7.00/acre. The rates shown include the 2011 Reclamation rate and the 2011 BIA rate.
Note #3—This notice establishes the final rate for the SCIP-Joint Works for FY 2012. The proposed rate for FY 2012 was published in the Federal Register on November 1, 2011 (Vol. 75, No. 210, page 67095). The 2011 rate was established by final notice in the Federal Register on August 11, 2009 (Vol. 74 No. 153, page 40227).
Note #4—The 2011 O&M rate for the San Carlos Irrigation Project—Indian Works has three components. The first component is the O&M rate established by the San Carlos Irrigation Project—Indian Works, the owner and operator of the Project; this rate is proposed to be $36.00 per acre. The second component is for the O&M rate established by the San Carlos Irrigation Project—Joint Works and is determined to be $25.00 per acre. The third component is the O&M rate established by the San Carlos Irrigation Project Joint Control Board and is proposed to be $7 per acre.

Consultation and Coordination With Tribal Governments (Executive Order 13175)

To fulfill its consultation responsibility to Tribes and Tribal organizations, the BIA communicates, coordinates, and consults on a continuing basis with these entities on issues related to water delivery, water availability, and costs of administration, operation, maintenance, and rehabilitation of projects that concern them. This is accomplished at the individual irrigation project by Project, Agency, and Regional representatives, as appropriate, in accordance with local protocol and procedures. This notice is one component of our overall coordination and consultation process to provide notice to these entities when we adjust irrigation assessment rates.

Actions Concerning Regulations That Significantly Affect Energy Supply, Distribution, or Use (Executive Order 13211)

The rate adjustments will have no adverse effects on energy supply, distribution, or use (including a shortfall in supply, price increases, and increase use of foreign supplies) as this rate adjustment is implemented. This is a notice for rate adjustments at BIA-owned and operated irrigation projects, except for the Fort Yuma Irrigation Project. The Fort Yuma Irrigation Project is owned and operated by the Bureau of Reclamation with a portion serving the Fort Yuma Reservation.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on State, local, or Tribal governments in the aggregate, or on the private sector, of more than $130 million per year. The rule does not have a significant or unique effect on State, local, or Tribal governments or the private sector. Therefore, the Department of the Interior (Department) is not required to prepare a statement containing the information required by the Unfunded Mandates Reform Act (2 U.S.C. 1531 et seq.).

Takings (Executive Order 12630)

The Department has determined that these rate adjustments do not have significant “takings” implications. The rate adjustments do not deprive the public, state, or local governments of rights or property.

Federalism (Executive Order 13132)

The Department has determined that these rate adjustments do not have significant Federalism effects because they will not affect the States, the relationship between the national government and the States, or the distribution of power and responsibilities among various levels of government.

Civil Justice Reform (Executive Order 12988)

In issuing this rule, the Department has taken the necessary steps to eliminate drafting errors and ambiguity, minimize potential litigation, and provide a clear legal standard for affected conduct, as required by section 3 of Executive Order 12988.

Paperwork Reduction Act of 1995

These rate adjustments do not affect the collections of information which have been approved by the Office of Information and Regulatory Affairs, Office of Management and Budget, under the Paperwork Reduction Act of 1995. The OMB Control Number is 1076-0141 and expires December 31, 2012.

National Environmental Policy Act

The Department has determined that these rate adjustments do not constitute a major Federal action significantly affecting the quality of the human environment and that no detailed statement is required under the National Environmental Policy Act of 1969 (42 U.S.C. 4321-4370(d)).

Data Quality Act

In developing this notice, we did not conduct or use a study, experiment, or survey requiring peer review under the Information Quality Act (Pub. L. 106-554).

Dated: April 27, 2011.
Jodi Gillette,
Deputy Assistant Secretary—Indian Affairs.

[FR Doc. 2011-11165 Filed 5-6-11; 8:45 am]

BILLING CODE 4310-W7-P